Proclamation 10546 of March 31, 2023

Second Chance Month, 2023

By the President of the United States of America

A Proclamation

America has always been a land of second chances, founded on fresh starts, new possibilities, and the belief that every person deserves to be treated with dignity and respect. During Second Chance Month, we recommit to helping people forge the new beginnings they have earned and building a safer and more just society.

I believe in redemption—but for hundreds of thousands of Americans released from State and Federal prisons each year, or the nearly 80 million who have an arrest or conviction record, it is not always easy to come by. A criminal record can prevent them from landing a steady job, a safe place to live, quality health care, or the chance to go to back school. It can keep them from ever getting a loan to buy a home, start a business, or build a future. It can bar them from voting. As a result, three-quarters of formerly incarcerated people remain unemployed a year after their release—and joblessness is a top predictor of recidivism. We are not giving people a real second chance.

Our justice system should instead be based on the simple premise that once someone completes their sentence, they should have the chance to earn a living, build a life, and participate in our democracy as fellow citizens. Instead of giving people $25 and a bus ticket when they are released, we have to help them address their underlying needs as they re-enter society. It will keep families whole, build stronger and safer communities, grow our economy, and reduce recidivism long-term.

To do that, we need education, job, and substance use programs, during and after incarceration. My Administration is, for example, investing nearly $1 billion in job training, recovery, and reentry services. We are implementing changes to the Pell Grant program so people can earn a college degree while still in prison, jumpstarting new lives. Once they are released, we are helping them to find jobs rebuilding America through our historic infrastructure law; and we have expanded access to small business loans, so no one's past keeps them from building a better future.

There is much more to do. Last summer, I released my Safer America Plan, which calls on the Congress to invest $15 billion more in mental health and substance use services, job training, affordable housing, and other resources to help people rebuild their lives. It also urges the Congress to end restrictions on people with criminal records receiving disability insurance, Supplemental Nutrition Assistance Program food assistance, or other Federal benefits that would help them get back on their feet.

At the same time, we have to invest in preventing crime and breaking the cycle of recidivism. To that end, my Administration has put $3 billion in American Rescue Plan funds toward mental health and substance use programs. We are allocating $400 million this year to keep young people from becoming involved in the juvenile justice system. And my Safer America Plan would increase support for State and local crime prevention, including community violence intervention, which has been shown to reduce gun violence by up to 60 percent. We have also taken historic steps to end our Nation's failed approach to marijuana. Sending people to prison for possession has upended too many lives for conduct that many States no longer prohibit. It has seen Black and Brown Americans disproportionately arrested, prosecuted, and convicted; and imposed unfair barriers to housing, employment, and education. Last fall, I announced a full pardon for Federal and DC simple possession offenses, while calling on other elected officials to do the same at the State and local levels where most marijuana prosecutions take place.

Meanwhile, we are working to reverse generations of disinvestment, rebuilding America's economy from the bottom up and middle out to leave no one behind. We have created a record 12 million jobs in the last 2 years and now have the near lowest unemployment rate in a half-century, putting good-paying work within everyone's reach, including people with past arrests or convictions. Our historic investments in infrastructure, manufacturing, and clean energy will help to close the racial wealth gap, investing in people and communities that have been overlooked for too long. That is what second chances look like, and every American should have an equal shot at one.

NOW, THEREFORE, I, JOSEPH R. BIDEN JR., President of the United States of America, by virtue of the authority vested in me by the Constitution and the laws of the United States, do hereby proclaim April 2023 as Second Chance Month. I call upon all government officials, educators, volunteers, and all the people of the United States to observe the month with appropriate programs, ceremonies, and activities.

IN WITNESS WHEREOF, I have hereunto set my hand this thirty-first day of March, in the year of our Lord two thousand twenty-three, and of the Independence of the United States of America the two hundred and forty-seventh.

[FR Doc. 2023-07314

Filed 4-4-23; 11:15 am]

Billing code 3395-F3-P